DEPARTMENT OF ENERGY

Federal Energy Regulatory Commission

Combined Notice of Filings

Take notice that the Commission has received the following Natural Gas Pipeline Rate and Refund Report filings:

Filings Instituting Proceedings

Docket Number: PR19-67-000.

Applicants: Columbia Gas of Ohio, Inc.

Description: Tariff filing per 284.123(b),(e)/: COH Rates effective July 1, 2019 to be effective 7/1/2019 under PR19-67.

Filed Date: 7/11/19.

Accession Number: 201907115046.

Comments/Protests Due: 5 p.m. ET 8/1/19.

Docket Numbers: RP19-1382-000.

Applicants: Northern Natural Gas Company.

Description: § 4(d) Rate Filing: 20190711 Negotiated Rate to be effective 7/12/2019.

Filed Date: 7/11/19.

Accession Number: 20190711-5109.

Comments Due: 5 p.m. ET 7/23/19.

Docket Numbers: RP19-1383-000.

Applicants: Dominion Energy Transmission, Inc.

Description: § 4(d) Rate Filing: DETI—July 11, 2019 Negotiated Rate Agreements to be effective 7/12/2019.

Filed Date: 7/11/19.

Accession Number: 20190711-5133.

Comments Due: 5 p.m. ET 7/23/19.

Docket Numbers: RP19-1384-000.

Applicants: Southwest Energy, L.P.

Description: Joint Petition for Temporary Waiver of Commission Policies, Capacity Release Regulations and Policies of Southwest Energy, L.P., et al. under RP19-1384.

Filed Date: 7/11/19.

Accession Number: 20190711-5151.

Comments Due: 5 p.m. ET 7/23/19.

Docket Numbers: RP19-846-001.

Applicants: Black Hills Shoshone Pipeline, LLC.

Description: Request for Extension of Time to Implement NAESB 3.1 Standards Per Order No. 587-Y of Black Hills Shoshone Pipeline LLC under RP19-846.

Filed Date: 7/11/19.

Accession Number: 20190711-5158.

Comments Due: 5 p.m. ET 7/19/19.

Docket Numbers: RP19-1291-002.

Applicants: Paiute Pipeline Company.

Description: Compliance filing Compliance Filing—RP19-1291 to be effective 7/1/2019.

Filed Date: 7/12/19.

Accession Number: 20190712-5146.

Comments Due: 5 p.m. ET 7/24/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 15, 2019.
Nathaniel J. Davis, Sr.,
Deputy Secretary.

[FR Doc. 2019-15378 Filed 7-18-19; 8:45 am]

BILLING CODE 6717-01-P